DEPARTMENT OF TRANSPORTATION

Federal Aviation Administration

14 CFR Part 39

[Docket No. FAA-2010-0026; Directorate Identifier 2010-NE-03-AD]

RIN 2120-AA64

Airworthiness Directives; CFM International, S.A. CFM56-5, -5B, and -7B Series Turbofan Engines

AGENCY: Federal Aviation Administration (FAA), DOT.

ACTION: Notice of proposed rulemaking (NPRM).

SUMMARY: The FAA proposes to adopt a new airworthiness directive (AD) for CFM International, S.A. CFM56-5, -5B, and -7B series turbofan engines. This proposed AD would require removing from service, nine stage 3 low-pressure turbine (LPT) disks, identified by serial number (S/N). This proposed AD results from the discovery of a material nonconformity requiring removal of the disk before the certified disk life of certain stage 3 LPT disks. We are proposing this AD to prevent uncontained failure of the stage 3 LPT disk and damage to the airplane.

DATES: We must receive any comments on this proposed AD by May 17, 2010.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

FOR FURTHER INFORMATION CONTACT: Antonio Cancelliere, Aerospace Engineer, Engine Certification Office, FAA, Engine & Propeller Directorate, 12 New England Executive Park, Burlington, MA 01803; e-mail: antonio.cancelliere@faa.gov; telephone (781) 238-7751; fax (781) 238-7199.

SUPPLEMENTARY INFORMATION:

Comments Invited

We invite you to send us any written relevant data, views, or arguments regarding this proposal. Send your comments to an address listed under ADDRESSES. Include “Docket No. FAA-2010-0026; Directorate Identifier 2010-NE-03-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

In February 2009, we were made aware by CFM International, S.A. of stage 3 LPT disks, part number (P/N) 336-002-006-0, S/Ns DE255844, DE256388, DE256622, DE256623, DE256625, DE256627, DE256628, DE256631, and DE256637, being suspect of material non-conformity. This batch of parts was subject to a quality problem during manufacturing. CFM International, S.A. states that the manufacturing process has since been revised to eliminate the quality problem. The non-conformity requires removal from service of the suspect disks before their certified life limits. Operating engines with these affected disks to the certified life limit could result in uncontained failure of the stage 3 LPT disk and damage to the airplane.

FAA's Determination and Requirements of the Proposed AD

We have evaluated all pertinent information and identified an unsafe condition that is likely to exist or develop on other products of this same type design. This proposed AD would require removing from service any affected stage 3 LPT disks from engines before their certified life limit. We are proposing this AD, which would require removing the affected stage 3 LPT disks from service before accumulating 9,500 cycles-since-new.

Costs of Compliance

We estimate that this proposed AD would affect two engines installed on airplanes of U.S. registry. The pro-rated cost of the replacement parts is $40,375 per engine. We estimate that no additional labor costs would be incurred to perform the required disk removals, because the removals would be done at time of engine shop visit. Based on these figures, we estimate the total cost of the proposed AD to U.S. operators to be $80,750.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

CFM International, S.A.: Docket No. FAA-2010-0026; Directorate Identifier 2010-NE-03-AD.

Comments Due Date

(a) The Federal Aviation Administration (FAA) must receive comments on this airworthiness directive (AD) action by May 17, 2010.

Affected ADs

(b) None.

Applicability

(c) This AD applies to CFM International CFM56-5, -5B, and -7B series turbofan engines with stage 3 low-pressure turbine (LPT) disks installed with the following serial numbers, (S/Ns) DE255844, DE256388, DE256622, DE256623, DE256625, DE256627, DE256628, DE256631, and DE256637. The -5 and -5B series engines are installed on, but not limited to, Airbus A318, A319, A320, A321, and A340 airplanes, and the -7B series engines are installed on, but not limited to, Boeing 737 series airplanes.

Unsafe Condition

(d) This AD results from the discovery of a material nonconformity requiring removal of the disk before the certified disk life of certain stage 3 LPT disks. We are issuing this AD to prevent uncontained failure of the stage 3 LPT disk and damage to the airplane.

Compliance

(e) You are responsible for having the actions required by this AD performed within the compliance time specified unless the actions have already been done.

Removal of Affected Stage 3 LPT Disks From Service

(f) Before accumulating 9,500 cycles-since-new, remove stage 3 LPT disks from service.

(g) After the effective date of this AD do not reinstall any stage 3 LPT disk removed from service per paragraph (f) of this AD into any engine.

Alternative Methods of Compliance

(h) The Manager, Engine Certification Office, has the authority to approve alternative methods of compliance for this AD if requested using the procedures found in 14 CFR 39.19.

Related Information

(i) Contact Antonio Cancelliere, Aerospace Engineer, Engine Certification Office, FAA, Engine & Propeller Directorate, 12 New England Executive Park, Burlington, MA 01803; e-mail: antonio.cancelliere@faa.gov; telephone (781) 238-7751; fax (781) 238-7199, for more information about this AD.

(j) CFM International, S.A. Service Bulletin (SB) No. CFM56-5B S/B 72-0733, dated October 26, 2009, and SB No. CFM56-7B S/B 72-0743, dated October 26, 2009, pertain to the subject of this AD. Contact CFM International, Technical Publications Department, 1 Neumann Way, Cincinnati, OH 45215; telephone (513) 552-2800; fax (513) 552-2816, for a copy of this service information.

Issued in Burlington, Massachusetts, on March 11, 2010.
Peter A. White,
Assistant Manager, Engine and Propeller Directorate, Aircraft Certification Service.

[FR Doc. 2010-5861 Filed 3-17-10; 8:45 am]

BILLING CODE 4910-13-P